DEPARTMENT OF ENERGY

Federal Energy Regulatory Commission

Combined Notice of Filings #1

Take notice that the Commission received the following electric rate filings:

Docket Numbers: ER10-1847-001; ER10-1856-001; ER10-1890-001; ER11-2160-001; ER10-1906-001; ER10-1962-001; ER11-4677-002; ER10-1989-001; ER11-4678-002; ER10-1992-001; ER12-631-002; ER10-1971-009.

Applicants: Diablo Winds, LLC, FPL Energy Cabazon Wind, LLC, FPL Energy Green Power Wind, LLC, FPL Energy Montezuma Wind, LLC, FPL Energy New Mexico Wind, LLC, High Winds, LLC, NextEra Energy Montezuma II Wind, LLC, Sky River LLC, Vasco Winds, LLC, Victory Garden Phase IV, LLC, Windpower Partners 1993, LLC, NextEra Energy Power Marketing, LLC.

Description: NextEra Resources Entities submit Notification of Non-material Change in Status in the California ISO, Inc. balancing authority area.

Filed Date: 12/20/12.

Accession Number: 20121220-5274.

Comments Due: 5 p.m. ET 1/10/13.

Docket Numbers: ER10-1966-001; ER10-1976-001; ER11-2970-003; ER10-1985-001; ER10-1971-008.

Applicants: Logan Wind Energy LLC, Northern Colorado Wind Energy, LLC, Peetz Logan Interconnect, LLC, Peetz Table Wind Energy, LLC, NextEra Energy Power Marketing, LLC.

Description: NextEra Resources Entities submit Notification of Non-material Change in Status in the Public Service Company of Colorado balancing authority area.

Filed Date: 12/20/12.

Accession Number: 20121220-5263.

Comments Due: 5 p.m. ET 1/10/13.

Docket Numbers: ER10-2719-011; ER10-2718-011; ER10-2578-013; ER10-2633-011; ER10-2570-011; ER10-2717-011; ER10-3140-010; ER13-55-002.

Applicants: East Coast Power Linden Holding, L.L.C., Cogen Technologies Linden Venture, L.P., Fox Energy Company LLC, Birchwood Power Partners, L.P., Shady Hills Power Company, L.L.C., EFS Parlin Holdings, LLC, Inland Empire Energy Center, LLC, Homer City Generation, L.P.

Description: Notice of Non-Material Change in Status of East Coast Power Linden Holding, L.L.C., et. al.

Filed Date: 12/20/12.

Accession Number: 20121220-5277.

Comments Due: 5 p.m. ET 1/10/13.

Docket Numbers: ER11-3959-003.

Applicants: Post Rock Wind Power Project, LLC.

Description: Notice of Non-Material Change in Status for Post Rock Wind Power Project, LLC.

Filed Date: 12/20/12.

Accession Number: 20121220-5279.

Comments Due: 5 p.m. ET 1/10/13.

Docket Numbers: ER12-2570-001; ER01-138-010; ER10-3193-001.

Applicants: Panther Creek Power Operating, LLC, Brooklyn Navy Yard Cogeneration Partners, L.P., Delta Person Limited Partnership.

Description: Notice of Non-Material Change in Status of Panther Creek Operating, LLC, et. al.

Filed Date: 12/20/12.

Accession Number: 20121220-5276.

Comments Due: 5 p.m. ET 1/10/13.

Docket Numbers: ER12-2708-001.

Applicants: Potomac-Appalachian Highline Transmission LLC, LLC, PJM Interconnection, L.L.C.

Description: PATH submits Compliance Filing per 11/30/2012 Order in Docket No. ER12-2708 to be effective 12/1/2012.

Filed Date: 12/20/12.

Accession Number: 20121220-5204.

Comments Due: 5 p.m. ET 1/10/13.

Docket Numbers: ER13-593-000.

Applicants: PacifiCorp.

Description: Termination of BPA NITSA (Clark PUD) to be effective 12/7/2012.

Filed Date: 12/20/12.

Accession Number: 20121220-5130.

Comments Due: 5 p.m. ET 1/10/13.

Docket Numbers: ER13-594-000.

Applicants: Southwest Power Pool, Inc.

Description: 2479 Kansas Municipal Energy & Kansas City Power & Light Meter Agent Agreement to be effective 12/1/2012.

Filed Date: 12/20/12.

Accession Number: 20121220-5133.

Comments Due: 5 p.m. ET 1/10/13.

Docket Numbers: ER13-595-000.

Applicants: Spion Kop Wind, LLC.

Description: Notice of Cancellation of FERC Electric Tariff to be effective 12/21/2012.

Filed Date: 12/20/12.

Accession Number: 20121220-5146.

Comments Due: 5 p.m. ET 1/10/13.

Docket Numbers: ER13-596-000.

Applicants: Midwest Independent Transmission System Operator Inc.

Description: 12-20-12 MRES Schedule 7-8-9 to be effective 1/1/2013.

Filed Date: 12/20/12.

Accession Number: 20121220-5147.

Comments Due: 5 p.m. ET 1/10/13.

Docket Numbers: ER13-597-000.

Applicants: Alabama Power Company.

Description: Amendment of Southern's Tariff Vol. No. 4 in Compliance under Docket ER12-1721 to be effective 12/21/2012.

Filed Date: 12/20/12.

Accession Number: 20121220-5148.

Comments Due: 5 p.m. ET 1/10/13.

Docket Numbers: ER13-598-000.

Applicants: San Diego Gas & Electric Company.

Description: 2013 SDGE RS Update to Transmission Owner Tariff to be effective 1/1/2013.

Filed Date: 12/20/12.

Accession Number: 20121220-5151.

Comments Due: 5 p.m. ET 1/10/13.

Docket Numbers: ER13-599-000.

Applicants: New York Independent System Operator, Inc.

Description: 205 OATT & MST settlements and billing issues revisions to be effective 2/18/2013.

Filed Date: 12/20/12.

Accession Number: 20121220-5155.

Comments Due: 5 p.m. ET 1/10/13.

Docket Numbers: ER13-600-000.

Applicants: PJM Interconnection, L.L.C.

Description: PJM Queue X2-076 ? Original Service Agreement Nos. 3459 and 3460 to be effective 11/27/2012.

Filed Date: 12/20/12.

Accession Number: 20121220-5182.

Comments Due: 5 p.m. ET 1/10/13.

Docket Numbers: ER13-601-000.

Applicants: Southwest Power Pool, Inc.

Description: 2208R2 Ensgin Wind, LLC GIA to be effective 11/30/2012.

Filed Date: 12/20/12.

Accession Number: 20121220-5188.

Comments Due: 5 p.m. ET 1/10/13.

Docket Numbers: ER13-602-000.

Applicants: San Diego Gas & Electric Company.

Description: 2013 SDGE TRBAA TACBAA Update to Transmission Owner Tariff to be effective 1/1/2013.

Filed Date: 12/20/12.

Accession Number: 20121220-5199.

Comments Due: 5 p.m. ET 1/10/13.

Docket Numbers: ER13-603-000.

Applicants: ITC Midwest LLC, Midwest Independent Transmission System Operator Inc.

Description: SA 2453 ITC Midwest-NSP Amended TIA to be effective 8/29/2012.

Filed Date: 12/20/12.

Accession Number: 20121220-5202.

Comments Due: 5 p.m. ET 1/10/13.

Docket Numbers: ER13-604-000.

Applicants: Alpaugh 50, LLC.

Description: Filing of Co-Tenancy Agreement and Request for Waivers to be effective 12/21/2012.

Filed Date: 12/20/12.

Accession Number: 20121220-5219.

Comments Due: 5 p.m. ET 1/10/13.

Docket Numbers: ER13-605-000.

Applicants: Alpaugh North, LLC.

Description: Filing of Co-Tenancy Agreement and Request for Waivers to be effective 12/21/2012.

Filed Date: 12/20/12.

Accession Number: 20121220-5224.

Comments Due: 5 p.m. ET 1/10/13.

Docket Numbers: ER13-606-000.

Applicants: Entergy Mississippi, Inc.

Description: First Rev. SA #591 to be effective 3/1/2013.

Filed Date: 12/20/12.

Accession Number: 20121220-5231.

Comments Due: 5 p.m. ET 1/10/13.

Docket Numbers: ER13-607-000.

Applicants: Potomac Electric Power Company, Delmarva Power & Light Company, PJM Interconnection, L.L.C.

Description: Pepco & DPL submit revisions to rates for recovery of abandonment costs to be effective 3/1/2013.

Filed Date: 12/21/12.

Accession Number: 20121221-5000.

Comments Due: 5 p.m. ET 1/11/13.

Docket Numbers: ER13-608-000.

Applicants: CPV Batesville, LLC.

Description: Notice of Cancellation of Market-Based Rate Tariff to be effective 12/22/2012.

Filed Date: 12/21/12.

Accession Number: 20121221-5040.

Comments Due: 5 p.m. ET 1/11/13.

Docket Numbers: ER13-609-000.

Applicants: LSP Energy Limited Partnership.

Description: Notice of Cancellation of Market-Based Rate Tariff to be effective 12/22/2012.

Filed Date: 12/21/12.

Accession Number: 20121221-5041.

Comments Due: 5 p.m. ET 1/11/13.

Docket Numbers: ER13-610-000.

Applicants: Northern Indiana Public Service Company.

Description: Filing of Amendment to WVPA CIAC Agreement to be effective 12/22/2012.

Filed Date: 12/21/12.

Accession Number: 20121221-5046.

Comments Due: 5 p.m. ET 1/11/13.

Docket Numbers: ER13-611-000.

Applicants: NorthWestern Corporation.

Description: NorthWestern Corporation submits tariff filing per 35.13(a)(2)(iii: SA 663 664 665—Unexecuted Transmission Service Agreements with PPL Montana to be effective 1/1/2014.

Filed Date: 12/21/12.

Accession Number: 20121221-5064.

Comments Due: 5 p.m. ET 1/11/13.

Docket Numbers: ER13-612-000.

Applicants: New England Power Pool Participants Committee, ISO New England Inc.

Description: New England Power Pool Participants Committee submits tariff filing per 35.13(a)(2)(iii: Revisions to FCM Rules Related to Static De-List Bids to be effective 2/19/2013.

Filed Date: 12/21/12.

Accession Number: 20121221-5068.

Comments Due: 5 p.m. ET 1/11/13.

Take notice that the Commission received the following public utility holding company filings:

Docket Numbers: PH13-5-000.

Applicants: AltaGas Ltd.

Description: AltaGas Ltd. submits FERC-65A Exemption Notification.

Filed Date: 12/21/12.

Accession Number: 20121221-5030.

Comments Due: 5 p.m. ET 1/11/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2012.
Nathaniel J. Davis, Sr.,
Deputy Secretary.

[FR Doc. 2012-31482 Filed 12-31-12; 8:45 am]

BILLING CODE 6717-01-P